DEPARTMENT OF TRANSPORTATION

Federal Aviation Administration

Notice of Intent To Request Approval From the Office of Management and Budget of a New Information Collection Activity, Request for Comments; 2008 Newly Certificated Airframe and/or Powerplant Mechanics: Assessment of the Mechanic's Practical Test Program

AGENCY: Federal Aviation Administration (FAA), DOT.

ACTION: Notice and request for comments.

SUMMARY: The FAA invites public comments about our intention to request the Office of Management and Budget (OMB) to approve a new information collection. This project involves collecting data from individual applicants who have recently taken, for the first time, and passed an oral and/or practical Airframe and/or Powerplant (A and/or P) Mechanic Certification test.

DATES: Please submit comments by September 7, 2007.

FOR FURTHER INFORMATION CONTACT: Carla Mauney on (202) 267-9895, or by e-mail at: Carla.Mauney@faa.gov.

SUPPLEMENTARY INFORMATION:

Federal Aviation Administration (FAA)

Title: 2008 Newly Certificated Airframe and/or Powerplant Mechanics: Assessment of the Mechanic's Practical Test Program.

Type of Request: New collection.

OMB Control Number: 2121-XXXX.

Form(s): There are no FAA forms associated with this collection.

Affected Public: A total of 2,200 Respondents.

Frequency: The information is collected on occasion.

Estimated Average Burden per Response: Approximately 1 hour per response.

Estimated Annual Burden Hours: An estimated 2,200 hours annually.

Abstract: This project involves collecting data from individual applicants who have recently taken, for the first time, and passed an oral and/or practical Airframe and/or Powerplant (A and/or P) Mechanic Certification test. The goal of this effort is “to reduce the number of fatal accidents in general aviation” by identifying areas of concern so that the FAA may affect corrections in FAA policy, guidance material, and FAA-sponsored programs in order to improve the overall quality of the designated mechanic examiner oral and/or practical test program.

ADDRESSES: Send comments to the FAA at the following address: Ms. Carla Mauney, Room 712, Federal Aviation Administration, IT Enterprises Business Services Division, AES-200, 800 Independence Avenue, SW., Washington, DC 20591.

Comments Are Invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on July 3, 2007.
Carla Mauney,
FAA Information Collection Clearance Officer, IT Enterprises Business Services Division, AES-200.

[FR Doc. 07-3314 Filed 7-6-07; 8:45 am]

BILLING CODE 4910-13-M